DEPARTMENT OF COMMERCE

National Oceanic and Atmospheric Administration

Climate Change Science Program (CCSP) Product Development Committee (CPDC) for Synthesis and Assessment Product 3.3

ACTIONS: Notice; establishment of Climate Change Science Program (CCSP) Product Development Committee (CPDC) for Synthesis and Assessment Product 3.3 (CPDC—S&A 3.3) under provisions of the Federal Advisory Committee Act and announcement of the first meeting of the Committee.

SUMMARY: In accordance with the provisions of the Federal Advisory Committee Act, 5 U.S.C. App. 2, and the General Services Administration (GSA) rule of Federal Advisory Committee Management, 41 CFR part 102-3, and after consultation with GSA, the Secretary of Commerce has determined that the establishment of the National Oceanic and Atmospheric Administration (NOAA) Climate Change Science Program (CCSP) Product Development Committee (CPDC) for Synthesis and Assessment Product 3.3 (CPDC—S&A 3.3) is in the public interest, in connection with the performance of duties imposed on the Department by law. The CPDC—S&A 3.3 will advise the Secretary, through the Under Secretary of Commerce for Oceans and Atmosphere, on CCSP Topic 3.3: “Weather and Climate Extremes in a Changing Climate”. This advice will be provided in the form of a draft Synthesis and Assessment product intended to be used by NOAA to develop a final product in accordance with the Guidelines for Producing the CCSP Synthesis and Assessment Products, the OMB Peer Review Bulletin, and the Information Quality Act Guidelines. The CPDC—S&A 3.3 will consist of no more than 35 members to be appointed by the Under Secretary to assure a balanced representation among preeminent scientists, educators, and experts reflecting the full scope of the scientific issues addressed in CCSP Synthesis and Assessment Product 3.3. The CPDC—S&A 3.3 will function solely as an advisory body, and in compliance with the provisions of the Federal Advisory Committee Act. Its charter will be filed under the Act, fifteen days from the date of publication of this notice.

Following establishment of CPDC-S&A 3.3, the first committee meeting will be held. All sessions of the meeting will be open to the public.

Place: The first meeting of CPDC—S&A 3.3.will be held at the International Pacific Research Center, Honolulu, Hawaii.

Time and Date: The meeting will convene at 8:30 a.m. on Monday, October 30, 2006 and adjourn at 12 noon on Thursday, November 2, 2006. Meeting information will be available online on the CPDC—S&A 3.3 Web site (http://www.climate.noaa.gov/index.jsp?pg=./ccsp/33.jsp). Please note that meeting times and agenda topics described below are subject to change.

Status: The meeting will be open to public participation and will include a 60-minute public comment period on October 30 from 10 a.m. to 11 a.m. (check Web site to confirm this time). The CPDC—S&A 3.3 expects that public statements presented at its meetings will not be repetitive of previously submitted verbal or written statements. In general, each individual or group making a verbal presentation will be limited to a total time of five (5) minutes. Written comments (at least 35 copies) should be received by the CPDC—S&A 3.3 Designated Federal Official (DFO) by October 20, 2006 to provide sufficient time for review. Written comments received after October 20 will be distributed to the CPDC—S&A 3.3, but may not be reviewed prior to the meeting date. Seats will be available to the public on a first-come, first-served basis.

Matters To Be Considered: The meeting will (1) work on an initial draft document based on detailed outline presented in the final Prospectus (2) review of plans for completion and submission of the First Draft of Synthesis and Assessment Product 3.3 to the National Research Council for expert review.

FOR FURTHER INFORMATION CONTACT: Dr. Christopher D. Miller, CPDC—S&A 3.3 DFO and the Program Manager, NOAA/OAR/Climate Program Office, Climate Change Data and Detection Program Element, 1100 Wayne Avenue, Suite 1210, Silver Spring, Maryland 20910; telephone 301-427-2376, e-mail: Christopher.D.Miller@noaa.gov.

Dated: September 25, 2006.
Sharon Schroeder,
Director of Program Policy Division, Office of Oceanic and Atmospheric Research, National Oceanic and Atmospheric Administration.

[FR Doc. E6-16059 Filed 9-28-06; 8:45 am]

BILLING CODE 3510-KD-P